DEPARTMENT OF HOMELAND SECURITY

Federal Emergency Management Agency

[FEMA Docket ID 2007-0007]

National Response Framework

AGENCY: Federal Emergency Management Agency, DHS.

ACTION: Notice of availability; request for comments.

SUMMARY: The Federal Emergency Management Agency (FEMA) is accepting comments on the draft supporting documents to the National Response Framework (NRF). Composed of the Emergency Support Functions Annexes, Support Annexes, and Incident Annexes, these supplemental documents provide additional guidance that may be used in implementing the NRF. Combined with the NRF, these documents incorporate lessons-learned from recent disasters, and articulate more clearly the roles of the States, tribal, and local jurisdictions and the private sector to guide a successful response to natural disasters or terrorist attacks.

DATES: Comments must be received by November 10, 2007.

ADDRESSES: The NRF and supporting documents are available online in the NRF Resource Center located at http://www.fema.gov/NRF, as well as in the docket for this notice at www.regulations.gov. You may also view hard copies at the Office of Chief Counsel, Federal Emergency Management Agency, Room 835, 500 C Street, SW., Washington, DC 20472. You may submit comments on the supporting documents, identified by Docket ID FEMA-2007-0007, by one of the following methods:

Federal eRulemaking Portal: http://www.regulations.gov. Follow the instructions for submitting comments.

E-mail: FEMA-POLICY@dhs.gov. Include Docket ID FEMA-2007-0007 in the subject line of the message.

Fax: 866-466-5370.

Mail/Hand Delivery/Courier: Regulation & Policy Team, Office of Chief Counsel, Federal Emergency Management Agency, Room 835, 500 C Street, SW., Washington, DC 20472.

Instructions: All Submissions received must include the agency name and docket ID. Regardless of the method used for submitting comments or material, all submissions will be posted, without change, to the Federal eRulemaking Portal at http://www.regulations.gov, and will include any personal information you provide. Therefore, submitting this information makes it public. You may wish to read the Privacy Act notice that is available on the Privacy and Use Notice link on the Administration Navigation Bar of www.regulations.gov.

FEMA has also provided a form, available in the docket at www.regulations.gov and in NRF Resource Center at http://www.fema.gov/NRF or http://www.fema.gov/emergency/NRF. Due to the large number of comments that are expected, FEMA asks that comments be submitted using this form.

Docket: For access to the docket to read background documents or comments received, go to the Federal eRulemaking Portal at http://www.regulations.gov and search for docket number FEMA-2007-0007. Submitted comments may also be inspected at FEMA, Office of Chief Counsel, Room 835, 500 C Street, SW., Washington, DC 20472.

FOR FURTHER INFORMATION CONTACT: Andrew Slaten, Acting National Response Framework Branch Chief, Federal Emergency Management Agency, 999 E Street, NW., Washington, DC 20463, 202-646-8152.

SUPPLEMENTARY INFORMATION: The National Response Framework (NRF) builds on the current National Response Plan and, using the comprehensive framework of the National Incident Management System (NIMS), serves as a guide to how the nation conducts all-hazards incident management. The annexes, consisting of the Emergency Support Functions Annexes, Support Annexes and Incident Annexes, add to the NRF to provide additional guidance to support Federal departments and agencies, States, tribes, local entities, the private sector, volunteer and other organizations in catastrophic incidents.

The Emergency Support Function Annexes provide the structure for coordinating Federal interagency support for a Federal response to an incident. They are mechanisms for grouping functions used to provide Federal support to States and Federal-to-Federal support, both for declared disasters and emergencies under the Stafford Act and for non-Stafford Act incidents.

The Support Annexes describe how Federal departments and agencies, States, tribes, local entities, the private sector, volunteer and other organizations coordinate and execute the common functional processes and administrative requirements necessary to ensure efficient and effective incident management. The actions described in the Support Annexes are not limited to particular types of events but are overarching in nature and applicable to nearly every type of incident, In addition, they may support several Emergency Support Functions. The Incident Annexes, on the other hand, outline the actions, roles and responsibilities associated with a response to a particular type of catastrophic incident.

The NRF and its supplemental materials are written especially for government executives, private-sector leaders and emergency management practitioners. At the same time, they inform emergency management practitioners, explaining the operating structures and tools used routinely by first responders and emergency managers at all levels of government.

The Department is providing the current draft of the NRF supplemental documents for public comment; these draft documents do not necessarily reflect the final policy of the Administration. The NRF support documents are available online in the NRF Resource Center located at http://www.fema.gov/NRF, and the docket for this notice at www.regulations.gov.

Authority: Homeland Security Act of 2002, as amended, 6 U.S.C. 101, et seq., Homeland Security Presidential Directive-5, Management of Domestic Incidents.

Dated: September 30, 2007.
R. David Paulison,
Administrator, Federal Emergency Management Agency.

[FR Doc. E7-19849 Filed 10-5-07; 8:45 am]

BILLING CODE 9110-21-P